DEPARTMENT OF TRANSPORTATION

Office of the Secretary

Applications of Caribbean Sun Airlines, Inc. for Certificate Authority

AGENCY: Department of Transportation.

ACTION: Notice of Order to Show Cause (Order 2009-12-8). Docket DOT-OST-2001-11164 and DOT-OST-2001-11198.

SUMMARY: The Department of Transportation is directing all interested persons to show cause why it should not (1) issue an order finding Caribbean Sun Airlines, Inc., fit, willing, and able, and to resume foreign scheduled air transportation of persons, property and mail, using one large aircraft.

DATES: Persons wishing to file objections should do so no later than December 29, 2009.

ADDRESSES: Objections and answers to objections should be filed in Dockets DOT-OST-2001-11164 and DOT-OST-2001-11198 and addressed to U.S. Department of Transportation, Docket Operations, (M-30, Room W12-140), 1200 New Jersey Avenue, SE., West Building Ground Floor, Washington, DC 20590, and should be served upon the parties listed in Attachment A to the order.

FOR FURTHER INFORMATION CONTACT: Catherine J. O'Toole, Air Carrier Fitness Division (X-56, Room W86-489), U.S. Department of Transportation, 1200 New Jersey Avenue, SE., Washington, DC 20590, (202) 366-9721.

Dated: December 14, 2009.
Susan Kurland,
Assistant Secretary for Aviation and International Affairs.

[FR Doc. E9-30229 Filed 12-18-09; 8:45 am]

BILLING CODE P